FEDERAL ELECTION COMMISSION

Sunshine Act Meeting

AGENCY: Federal Election Commission.

DATE & TIME: Tuesday December 9, 2014 At 10:00 a.m.

PLACE: 999 E Street NW., Washington, DC.

STATUS: This Meeting Will Be Closed To The Public.

Federal Register Notice of Previous Announcement—79 FR 72001

CHANGE IN THE MEETING: The Commission also discussed:

Internal personnel rules and internal rules and practices.

Information the premature disclosure of which would be likely to have a considerable adverse effect on the implementation of a proposed Commission action.

This meeting will be continued at the conclusion of the open meeting on December 11, 2014.

* * * * *

PERSON TO CONTACT FOR INFORMATION: Judith Ingram, Press Officer, Telephone: (202) 694-1220.

Shelley E. Garr,
Deputy Secretary of the Commission.

[FR Doc. 2014-29222 Filed 12-9-14; 4:15 pm]

BILLING CODE 6715-01-P